ENVIRONMENTAL PROTECTION AGENCY

40 CFR Parts 721 and 799

[EPA-HQ-OPPT-2010-0520; FRL-9343-9]

RIN 2070-AJ66

Certain High Production Volume Chemicals; Test Rule and Significant New Use Rule; Fourth Group of Chemicals; Notice of Public Meeting

AGENCY: Environmental Protection Agency (EPA).

ACTION: Proposed rule; public meeting.

SUMMARY: EPA will hold a public meeting on May 16, 2012, to give the public an opportunity to comment on a proposed test rule for 23 high production volume (HPV) chemical substances and a significant new use rule (SNUR) for another 22 HPV chemical substances under the Toxic Substances Control Act (TSCA). The test rule would require manufacturers and processors to develop screening-level health, environmental, and fate data based on the potential for substantial exposures of workers and consumers to the 23 HPV chemical substances, and the SNUR would require persons to file a significant new use notice (SNUN) with EPA prior to manufacturing, importing, or processing any of the 22 HPV chemical substances for use in a consumer product or for any use, or combination of uses, that would be reasonably likely to expose 1,000 or more workers at a single-corporate entity to the chemical substances. The required notification would provide EPA with the opportunity to evaluate the intended use and, if necessary, to prohibit or limit that activity before it occurs. The opportunity to present oral comment was offered in the proposed rule and, in response to that offer, a request to present oral comments was received.

DATES: The meeting will be held on Wednesday, May 16, 2012, from 1:30 p.m. to 5 p.m. Requests to participate in the meeting must be received on or before May 15, 2012.

To request accommodation of a disability, please contact either technical person listed under FOR FURTHER INFORMATON CONTACT, preferably at least 10 days prior to the meeting, to give EPA as much time as possible to process your request.

ADDRESSES: The meeting will be held at the Environmental Protection Agency, EPA East Rm. 1153, 1201 Constitution Ave. NW., Washington DC 20460-0001.

Requests to participate in the meeting, identified by docket identification (ID) number EPA-HQ-OPPT-2010-0520, may be submitted to either technical person listed under FOR FURTHER INFORMATION CONTACT.

FOR FURTHER INFORMATION CONTACT: For technical information contact: Robert Jones or Paul Campanella, Chemical Control Division (7405M), Office of Pollution Prevention and Toxics, Environmental Protection Agency, 1200 Pennsylvania Ave. NW., Washington, DC 20460-0001; telephone numbers: (202) 564-8161 and (202) 564-8091; email addresses: jones.robert@epa.gov and campanella.paul@epa.gov.

For general information contact: The TSCA-Hotline, ABVI-Goodwill, 422 South Clinton Ave., Rochester, NY 14620; telephone number: (202) 554-1404; email address: TSCA-Hotline@epa.gov.

SUPPLEMENTARY INFORMATION:

I. General Information

A. Does this action apply to me?

You may be potentially affected by this action if you manufacture (defined by statute to include import) or process any of the chemical substances that are listed in 40 CFR 799.5090(j) or 40 CFR 721.10228(a) of the proposed rule's regulatory text published in the Federal Register issue of October 21, 2011 (76 FR 65580) (FRL-8876-6). Potentially affected entities may include, but are not limited to:

• Manufacturers (defined by statute to include importers) of one or more of the subject chemical substances (NAICS codes 325 and 324110), e.g., chemical manufacturing and petroleum refineries.

• Processors of one or more of the subject chemical substances (NAICS codes 325 and 324110), e.g., chemical manufacturing and petroleum refineries.

This listing is not intended to be exhaustive, but rather provides a guide for readers regarding entities likely to be affected by this action. Other types of entities not listed in this unit could also be affected. The North American Industrial Classification System (NAICS) codes have been provided to assist you and others in determining whether this action might apply to certain entities. If you have any questions regarding the applicability of this action to a particular entity, consult either technical person listed under FOR FURTHER INFORMATION CONTACT.

This action may also affect certain entities through pre-existing import certification and export notification rules under TSCA. See Unit VI. of the October 21, 2011 proposed rule for export notification requirements.

B. How can I get copies of this document and other related information?

EPA has established a docket for this action under docket ID number EPA-HQ-OPPT-2010-0520. All documents in the docket are listed in the docket index available at http://www.regulations.gov. Although listed in the index, some information is not publicly available, e.g., Confidential Business Information (CBI) or other information whose disclosure is restricted by statute. Certain other material, such as copyrighted material, will be publicly available only in hard copy. Publicly available docket materials are available electronically at http://www.regulations.gov, or, if only available in hard copy, at the OPPT Docket. The OPPT Docket is located in the EPA Docket Center (EPA/DC) at Rm. 3334, EPA West Bldg., 1301 Constitution Ave. NW., Washington, DC. The EPA/DC Public Reading Room hours of operation are 8:30 a.m. to 4:30 p.m., Monday through Friday, excluding legal holidays. The telephone number of the EPA/DC Public Reading Room is (202) 566-1744, and the telephone number for the OPPT Docket is (202) 566-0280. Docket visitors are required to show photographic identification, pass through a metal detector, and sign the EPA visitor log. All visitor bags are processed through an X-ray machine and subject to search. Visitors will be provided an EPA/DC badge that must be visible at all times in the building and returned upon departure.

II. Background

In the Federal Register issue of October 21, 2011, EPA published a proposed test rule and SNUR to regulate 45 HPV chemical substances. EPA is proposing a test rule under TSCA section 4(a)(1)(B) for 23 of these 45 HPV chemical substances to require manufacturers, importers, and processors to conduct testing to obtain screening level data for health and environmental effects and chemical fate. EPA has preliminarily determined that: Each of the 23 HPV chemical substances included in that proposed rule is produced in substantial quantities and that there is or may be substantial human exposure to each of them; there are insufficient data to reasonably determine or predict the effects on health or the environment of the manufacture, distribution in commerce, processing, use, or disposal of the chemical substances or of any combination of these activities; and the testing program proposed is necessary to develop such data. Data developed under the proposed rule, when finalized, will provide critical information about the environmental fate and potential hazards associated with the subject chemical substances. When combined with information about exposure and uses, these data will allow the Agency and others to evaluate potential health and environmental risks and to take appropriate follow-up actions.

EPA is also proposing to establish significant new use reporting and recordkeeping under TSCA section 5(a)(2) for the other 22 HPV chemical substances that would require EPA notification prior to worker or consumer exposures rising to substantial levels. The SNUN allows EPA to evaluate the use according to the specific parameters and circumstances for that intended use and, if warranted, be able to regulate prospective manufacturers or processors of the chemical substance before the designated significant new uses of the chemical substance occur.

In response to the proposed rule, EPA received a request to present oral comment from the People for the Ethical Treatment of Animals (PETA). Written comments provided during the comment period for the proposed rule, including those requesting an opportunity for oral comment, are available and can be reviewed in the docket under docket ID number EPA-HQ-OPPT-2010-0520.

III. How can I request to participate in this meeting?

You may submit a request to participate in this meeting to either technical person listed under FOR FURTHER INFORMATION CONTACT. Do not submit any information in your request that is considered CBI.

Requests to participate in the meeting, identified by docket ID number EPA-HQ-OPPT-2010-0520, must be received on or before May 15, 2012.

List of Subjects

40 CFR Part 721

Environmental protection, Chemicals, Hazardous substances, Reporting and recordkeeping requirements.

40 CFR Part 799

Environmental protection, Chemicals, Hazardous substances, Laboratories, Reporting and recordkeeping requirements.

Dated: April 3, 2012.
Louise P. Wise,
Acting Assistant Administrator, Office of Chemical Safety and Pollution Prevention.

[FR Doc. 2012-8473 Filed 4-6-12; 8:45 am]

BILLING CODE 6560-50-P